INTERNATIONAL TRADE COMMISSION

[Investigation No. 337-TA-1134]

Certain Sleep-Disordered Breathing Treatment Mask Systems and Components Thereof; Notice of the Commission's Determination Not To Review an Initial Determination Terminating the Investigation Based on Settlement; Termination of the Investigation in Its Entirety

AGENCY: U.S. International Trade Commission.

ACTION: Notice.

SUMMARY: Notice is hereby given that the U.S. International Trade Commission has determined not to review the presiding administrative law judge's (“ALJ”) initial determination (“ID”) (Order No. 13) terminating the investigation based on settlement. The investigation is terminated.

FOR FURTHER INFORMATION CONTACT: Amanda Pitcher Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on October 4, 2018, based on a complaint, as supplemented, filed on behalf of ResMed Corp. of San Diego, California, ResMed Inc. of San Diego, California, and ResMed Ltd. of Bella Vista, Australia (collectively, “Complainants”). 83 FR 50,121 (October 4, 2018). The complaint, as supplemented, alleges violations of Section 337 of the Tariff Act of 1930, as amended, 19 U.S.C. 1337 (“section 337”), based upon the importation into the United States, the sale for importation, and the sale within the United States after importation of certain sleep-disordered breathing treatment mask systems and components thereof by reason of infringement of certain claims of U.S. Patent No. 9,119,931; U.S. Patent No. 9,027,556; U.S. Patent No. 9,962,511; U.S. Patent No. 9,962,510; and U.S. Patent No. 9,937,315. The complaint further alleges that an industry in the United States exists as required by section 337. The notice of investigation names Fisher & Paykel Healthcare Limited of Auckland, New Zealand; Fisher & Paykel Healthcare, Inc. of Irvine, California; and Fisher & Paykel Healthcare Distribution Inc. of Irvine, California (collectively, “Respondents”) as respondents. The Office of Unfair Import Investigations was not named as party in the investigation.

On February 22, 2019, the Complainants and Respondents filed a joint motion to terminate the investigation based on settlement.

On February 26, 2019, the ALJ issued the subject ID, granting the joint motion pursuant to Commission Rule 210.21(b). The ALJ found the parties included confidential and public versions of the settlement agreement and that the parties represented that there are no other agreements, written or oral, express or implied concerning the subject matter of the investigation. The ALJ also found that termination of the investigation is not contrary to the public interest. No petitions for review were filed.

The Commission has determined not to review the ID. The investigation is terminated.

The authority for the Commission's determination is contained in section 337 of the Tariff Act of 1930, as amended (19 U.S.C. 1337), and in Part 210 of the Commission's Rules of Practice and Procedure (19 CFR part 210).

By order of the Commission.
Issued: March 25, 2019.
Katherine Hiner,
Acting Secretary to the Commission.

[FR Doc. 2019-06045 Filed 3-28-19; 8:45 am]

BILLING CODE 7020-02-P